DEPARTMENT OF THE INTERIOR

Fish and Wildlife Service

Notice of Intent To Prepare an Environmental Impact Statement for the Proposed Exchange of Lands With Federal Interest on South Fox Island, Leelanau County, MI, Between the State of Michigan and a Private Citizen

AGENCY: Fish and Wildlife Service, Interior, lead; National Park Service, Interior, cooperating; Michigan Department of Natural Resources, cooperating.

ACTION: Notice of Intent to prepare an Environmental Impact Statement (EIS) for the proposed exchange of lands with Federal interest on South Fox Island, Leelanau County, Michigan.

SUMMARY: This notice advises the public that the U.S. Fish and Wildlife Service (FWS) intends to gather the information necessary for the preparation of an EIS. The actions to be evaluated by this EIS are: (1) The approval by FWS of the exchange of 313 acres, acquired by the State with Federal Aid in Wildlife Restoration assistance, for lands with equal monetary and wildlife restoration values; (2) the approval by the National Park Service (NPS) for the State to exchange 105 acres with NPS interest for private lands with equal or greater monetary and recreational value; and (3) the related exchange of 220 acres of unencumbered State-owned land for fee title and easements for private lands of equal value. All acreage is approximate. The proposed exchange will consolidate and confine most State ownership to approximately the northern one-third of South Fox Island, Leelanau County, Michigan, about 30 miles west northwest of Charlevoix, in Lake Michigan.

Based upon public comments and agency concerns, the current Proposed Action is a modification of the original proposal as presented in the Environmental Assessment Notice of Intent (65 FR 57367, Sep. 22, 2000) and public scoping meetings. The approximately 115 acre southern tip would feature three areas: (1) The southernmost portion (part of section 21) that includes the lighthouse, associated buildings, and part of the harbor area would remain in public ownership. (2) The unforested, sandy area, approximately bounded by forest on the north and south and the water's edge on the east and west (parts of sections 16 and 21), would be placed in a conservation easement if that portion was transferred to private ownership. The conservation easement would prevent any form of development from occurring within its borders. (3) The northernmost portion of the southern tip is forested and would go into private ownership without any conservation easement. The internet site at: http://midwest.fws.gov/NEPA/ contains a map of the proposed conservation easement and southern tip. The island property containing a cemetery would move into public ownership.

The FWS Regional Director is considering an exchange of lands acquired with Federal Aid in Wildlife Restoration funds under the authority of 50 CFR 80.14 and 43 CFR 12.71. The NPS and General Service's Administration (GSA) are considering the removal of a title reversion clause to allow the disposal of certain lands on South Fox Island and for the placement of a title reversion clause on replacement lands of equal monetary and recreational value. Alternatives could include approval, disapproval, or modification of the State's current proposal of the land exchange. Modifications could include, but are not limited to: changes in the boundaries and acreage of tracts to be exchanged; elimination of more of the NPS tract from the exchange; and deed restrictions on certain lands to be conveyed to the private owner to protect wildlife and historic resources.

This notice is being furnished as required by the National Environmental Policy Act (NEPA) Regulations (40 CFR 1501.7 and 1508.22). The intent of the notice is to obtain suggestions and additional information from other agencies and the public on the scope of issues to be addressed in the EIS. Comments and participation in this scoping process are solicited.

DATES: Written comments should be received on or before June 15, 2001. Scoping meetings are scheduled for June 5, 2001 at Leland High School, 200 N. Grand Avenue, Leland, Michigan 49654 and on June 6, 2001 at Charlevoix High School, 108 E. Garfield, Charlevoix, Michigan 49720. At each location, the meeting will take place from 6:30 to 9 p.m.

Public Involvement

The public is invited to participate in the scoping process, attendance at public meeting, and review of the draft EIS when it is produced. Scoping meetings are scheduled for June 5, 2001 at Leland High School, 200 N. Grand Avenue, Leland, Michigan and on June 6, 2001 at Charlevoix High School, 108 E. Garfield, Charlevoix, Michigan. At each location, the meeting will take place from 6:30 to 9 p.m.. There will be a 30 minute presentation at the beginning of each meeting prior to breaking into groups for comments and questions. Both meetings will be announced in the local news media. Release of the draft EIS for public comment will also be announced in the local news media, as these dates are established. Written scoping comments should be received within 30 days from the date of publication of this Notice of Intent. Public comments that were provided during an Environmental Assessment process on a similar proposal will be utilized in developing alternatives and issues for the draft EIS.

All comments received from individuals become part of the official public record. Requests for such comments will be handled in accordance with the Freedom of Information Act and the Council on Environmental Quality's NEPA regulations [40 CFR 1506.6(f)]. Our practice is to make comments, including names and home addresses of respondents, available for public review during regular business hours. Individual respondents may request that we withhold their home address from the record, which we will honor to the extent allowable by law. If a respondent wishes us to withhold his/her name and/or address, this must be stated prominently at the beginning of the comment.

ADDRESSES: Comments should be addressed to: Mr. Craig Czarnecki, U.S. Fish and Wildlife Service, East Lansing Field Office, 2651 Coolidge Road, Suite 101, East Lansing, MI 48823. Electronic mail comments may also be submitted within the comment period to: fw3foxisland@fws.gov

FOR FURTHER INFORMATION CONTACT: For the various agencies, the contacts are: Mr. Craig Czarnecki, U.S. Fish and Wildlife Service, East Lansing Field Office, 2651 Coolidge Road, Suite 101, East Lansing, MI 48823, telephone: (517) 351-8470, facsimile: (517) 351-1443; Mr. Jon Parker, U.S. Fish and Wildlife Service, Division of Federal Aid, Bishop Henry Whipple Federal Building, 1 Federal Drive, Fort Snelling, MN 55111; telephone: (612) 713-5142, facsimile: (612) 713-5290; or Ms. Elyse LaForest, National Park Service, 15 State Street, Boston, MA 02109, telephone: (617) 223-5190, facsimile: (617) 223-5164; Mr. Doug Erickson, Michigan Department of Natural Resources, Wildlife Division, P.O. Box 30444, Lansing, MI 48909-7944; telephone: (517) 335-4316, facsimile: (517)373-6705.

SUPPLEMENTARY INFORMATION: The approximately 115 acre State owned tract with NPS and GSA interest contains the South Fox Island Lighthouse facilities that are either listed or may be eligible to be listed on the National Register of Historic Places and other historical or archeological resources may be present. The National Historic Preservation Act and other laws require these properties and resources be identified and considered in project planning. The public is requested to inform the FWS of concerns about archeological sites, buildings and structures, historic events, sacred and traditional areas, and other historic preservation concerns. Under the Proposed Action, the specific lands containing the lighthouse and associated buildings are not intended to be traded out of public ownership.

The NPS tract also includes proposed critical habitat for the federally endangered piping plover. The tract also contains federally threatened Pitcher's thistle, which is also present at other locations on the island. The deed will be subject to a conservation easement, if the portion of the southern tip containing these two federally listed species is traded.

The Grand Traverse Band of Ottawa and Chippewa Indians has unresolved claims to title and other property rights on the island. There is a cemetery on private land, which under the proposed action, would move to public ownership with guaranteed access.

There have been ongoing conflicts over trespass on both public, and private land parcels on the island. The ability of the public to access all land currently in State ownership is an ongoing issue.

The Service estimates that the draft EIS will be made available to the public by late 2001.

Dated: May 3, 2001.
William F. Hartwig,
Regional Director, Region 3, Fort Snelling, MN.

[FR Doc. 01-12335 Filed 5-15-01; 8:45 am]

BILLING CODE 4310-55-P